DEPARTMENT OF DEFENSE

Office of the Secretary: Notification of an Open Meeting of the National Defense University Board of Visitors (BOV)

AGENCY: National Defense University, DoD.

ACTION: Notice of open meeting.

SUMMARY: The National Defense University (NDU), Designated Federal Officer, has scheduled a meeting of the Board of Visitors for November 4 and 5, 2010, in Washington, DC. The National Defense University Board of Visitors is a Federal Advisory Board. The Board meets twice a year in proceedings that are open to the public.

DATES: The meeting will be held on November 4 (from 11:30 a.m. to 5 p.m.) and November 5, 2010 (from 8 a.m. to 12:30 p.m.).

ADDRESSES: The meeting will be held at Marshall Hall, Building 62, Room 155, the National Defense University, 300 5th Avenue, SW., Fort McNair, Washington, DC 20319-5066.

FOR FURTHER INFORMATION CONTACT: The point of contact for this notice is Ms. Dolores Hodge at (202) 685-0082, Fax (202) 685-7707 or HodgeD@ndu.edu.

SUPPLEMENTARY INFORMATION: The future agenda will include discussion on Defense transformation, faculty development, facilities, information technology, curriculum development, post 9/11 initiatives as well as other operational issues and areas of interest affecting the day-to-day operations of the National Defense University and its components. The meeting is open to the public; limited space made available for observers will be allocated on a first come, first served basis. Written statements to the committee may be submitted to the committee at any time or in response to a stated planned meeting agenda by fax or e-mail to the point of contact person listed under FOR FURTHER INFORMATION CONTACT. Include in the Subject Line: “Comment/Statement to the NDU BOV.”

Dated: September 8, 2010.
Mitchell S. Bryman,
Alternate OSD Federal Register Liaison Officer, Department of Defense.

[FR Doc. 2010-22754 Filed 9-10-10; 8:45 am]

BILLING CODE 5001-06-P